DEPARTMENT OF DEFENSE

Department of the Navy

[Docket ID: USN-2014-0013]

Proposed Collection; Comment Request

AGENCY: COMNAVSEASYSCOM, Department of the Navy, DOD.

ACTION: Notice.

SUMMARY: In compliance with Section 3506(c)(2)(A) of the Paperwork Reduction Act of 1995, the Department of the Navy announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 28, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Commander, Naval Sea Systems Command (West), 2100 2nd Street SW., Washington, DC 20746. The point of contact is Mr. Russell E. Tomaselli, 202-781-2320, SEA 00P1, Russell.Tomaselli@navy.mil.

SUPPLEMENTARY INFORMATION:

Title; Associated Form; and OMB Number: Naval Sea Systems Command and Field Activity Visitor Access for Washington Navy Yard Washington DC; NAVSEA 5500/1 NAVSEA Visitor Sign In/Out Sheet; OMB Control Number 0703-0055.

Needs and Uses: This information collection is necessary for Naval Sea Systems Command and Naval Sea Systems Command Field Activity's at Washington Navy Yard, Washington DC to verify visitors have appropriate credentials, clearance level and need-to-know are granted access to NAVSEA spaces, if they have clearance for classified information, and allow NAVSEA Security to keep record of vistors to NAVSEA spaces. Respondents are Navy business personnel, support contractors, individuals from other agencies visiting the Command and Field Activities, various members of the public.

Affected Public: Individual and households; Business or other for profit; Not-for-profit institutions

Annual Burden Hours: 1,300

Number of Respondents: 5,200

Responses per Respondent: 1

Average Burden per Response: 15 minutes

Frequency: On occasion

Respondents are Navy business personnel, support contractors, vendors, individuals from other agencies, family members of NAVSEA personnel (military/civilian) who want to visit/access the NAVSEA Command and Field Activities at Washington Navy Yard, Washington DC. Visitors enters the NAVSEA Visitor Control Center. Once the visitor is called to the counter by the Visitor Control Technician (VCT), fills in the next available line on NAVSEA 5500/1. The VCT ask the visitor if he or she has a clearance, if the visitor states, yes, then the VCT ask for their SSN. The visitor has the option to either provide it on a piece of paper or verbally communicate it to the VCT. If the visitor writes their SSN down on a piece of paper, the visitor is given the piece of paper back. If visitor states no, the visitor will need to show the VTC a pictured ID.

Dated: May 22, 2014.
Aaron Siegel,
Alternate OSD Federal Register, Liaison Officer, Department of Defense.

[FR Doc. 2014-12300 Filed 5-27-14; 8:45 am]

BILLING CODE 5001-06-P